DEPARTMENT OF AGRICULTURE

Farm Service Agency

[Docket ID FSA-2023-0011]

Notice; Emergency Livestock Relief Program (ELRP) 2022

AGENCY: Farm Service Agency, USDA.

ACTION: Notice.

SUMMARY: The Farm Service Agency (FSA) is issuing this notice to announce that it is issuing a second round of payments for ELRP 2022 participants. These payments will be subject to a modified payment calculation in compliance with a court order currently in effect.

FOR FURTHER INFORMATION CONTACT: Kathy Sayers; telephone: (202) 720-6870; email: Kathy.Sayers@usda.gov. Individuals who require alternative means of communication for program information should contact the USDA Target Center at (202) 720-2600 (voice) or dial 711 for Telecommunications Relay Service (both voice and text telephone users can initiate this call from any telephone).

SUPPLEMENTARY INFORMATION:

Background

FSA announced ELRP 2022 in a notice published in the Federal Register on September 27, 2023 (88 FR 66361-66366). Eligible livestock producers were not required to submit an application for ELRP 2022. As specified in the September 2023 notice, FSA is using data already submitted to FSA through the Livestock Forage Disaster Program (LFP).

Initial ELRP 2022 payments were issued immediately after publication of the notice based on a producer's gross 2022 LFP calculated payment.¹

¹ The deadline to submit a 2022 LFP Application was January 30, 2023.

The ELRP 2022 Notice of Funding Availability provided that the initial ELRP 2022 payment was equal to the eligible livestock producer's gross 2022 LFP calculated payment multiplied by an ELRP 2022 payment percentage of 90 percent for underserved farmers and ranchers and 75 percent for all other producers, multiplied by a 25-percent factor to stay within available funding. It also specified that a second payment of up to 75 percent may be issued if funds remain available after initial payments are completed. Funding remains available.

This notice announces that FSA will issue a second ELRP 2022 payment for an additional 7.25-percent factor with available funding.

On June 7, 2024, the United States District Court for the Northern District of Texas, Amarillo Division, issued a preliminary injunction in Rusty Strickland et al. v. U.S. Dept. of Agriculture et al. (Case No. 2:24-CV-60-Z) enjoining USDA “from making or increasing payments, or providing any additional relief, based on its `socially disadvantaged farmer or rancher' designation under [the Emergency Relief Program (ERP) 2022], whether used directly or as a subset of its `underserved farmer or rancher' designation.” ² The complaint challenges FSA's use of the socially disadvantaged farmer or rancher designation in several programs, including ELRP 2022; however, the preliminary injunction was applicable by its terms only to ERP 2022 ³, which was the only program for which the application period was open.

² For ERP 2022 and ELRP 2022, “socially disadvantaged farmer or rancher” means a farmer or rancher who is a member of a group whose members have been subjected to racial, ethnic, or gender prejudice because of their identity as members of a group without regard to their individual qualities. For entities, at least 50 percent of the ownership interest must be held by individuals who are members of such a group. Socially disadvantaged groups include the following and no others unless approved in writing by the Deputy Administrator:

(1) American Indians or Alaskan Natives;

(2) Asians or Asian-Americans;

(3) Blacks or African Americans;

(4) Hispanics or Hispanic Americans;

(5) Native Hawaiians or other Pacific Islanders; and

(6) Women.

“Underserved farmer or rancher” means a beginning farmer or rancher, limited resource farmer or rancher, socially disadvantaged farmer or rancher, or veteran farmer or rancher.

³ FSA issued a notice to announce the actions it was taking to comply with the preliminary injunction related to payment calculations for ERP 2022 on August 23, 2024. (89 FR 68125)

As USDA informed the court in Strickland,⁴ FSA will issue the second ELRP 2022 payments in a manner “consistent with the terms of the preliminary injunction, including not making or increasing any such payments based on the use of the socially disadvantaged designation.” Provided there are no other complicating factors (such as payment limitations), if they have the same gross 2022 LFP calculated payment, a producer who is considered underserved based solely on a socially disadvantaged designation and a non-underserved producer will receive the same payment in dollars in any second round of ELRP 2022 payments while the preliminary injunction is in effect.

⁴ Defendants' Notice of Compliance with the Court's Preliminary Injunction Order, at 2, ECF No. 27.

FSA intends to begin issuing these payments following publication of this document. If the preliminary injunction is lifted, with available funds, FSA will make or update payments to affected and eligible socially disadvantaged producers consistent with the terms of the Notice of Funding Availability.

Steven Peterson,
Acting Administrator, Farm Service Agency.

[FR Doc. 2024-25209 Filed 10-29-24; 8:45 am]

BILLING CODE 3411-EB-P